DEPARTMENT OF EDUCATION

[CFDA No. 84.305G]

Office of Educational Research and Improvement (OERI): Program of Research on Reading Comprehension; Notice Inviting Applications for New Awards for Fiscal Year (FY) 2002

Purpose of Program: The purpose of the Program of Research on Reading Comprehension is to expand scientific knowledge of how students develop proficient levels of reading comprehension, how reading comprehension can be taught most optimally, and how reading comprehension can be assessed in ways that reflect as well as advance our current understanding of reading comprehension and its development. The overarching goal of this program is to establish a scientific foundation for educational practice by supporting research on reading comprehension that is likely to produce substantial gains in academic achievement.

For FY 2002 the competition for new awards focuses on projects designed to meet the priority we describe in the Priority section of this notice.

Eligible Applicants: Institutions of higher education, regional educational laboratories, public or private organizations, institutions, agencies, and individuals, or a consortium thereof.

Deadline for Receipt of Letter of Intent: April 29, 2002.

A Letter of Intent is optional, but encouraged, for each application. The Letter of Intent should be submitted by e-mail to PRRCLettersofIntent@ed.gov. Receipt of the Letter of Intent will be acknowledged by e-mail. The Letter of Intent should not exceed one page in length and should: include a title and brief description of the research project; identify the Principal Investigator(s) and any Co-Principal Investigator(s); indicate the institutional affiliations of the Principal Investigator(s) and Co-Principal Investigator(s); indicate the duration of the proposed project; and provide an estimated budget request by year, and a total budget request. The Letter of Intent is for OERI planning purposes and will not be used in the evaluation of the application.

Applications Available: April 10, 2002.

Deadline for Transmittal of Applications: 4:30 p.m. Washington DC time on May 31, 2002.

Estimated Available Funds: $4.5 million.

Estimated Range of Awards: $75,000 to $500,000 (for 12 months). The size of the awards will be commensurate with the nature and scope of the work proposed.

Estimated Number of Awards: 10.

Note: The Department is not bound by any estimates in this notice.

Project Period: Up to 36 months.

Page Limits: The application must include the following sections: Application for Federal Assistance (ED 424 Standard Face Sheet), one-page abstract, research narrative, literature cited, curriculum vitae for principal investigators(s) and other key personnel, budget summary form (ED 524) with budget narrative, appendix, and statement of equitable access (GEPA 427). The research narrative is where you, the applicant, address the selection criteria that reviewers use to evaluate your application. You must limit the research narrative (text plus all figures, charts, tables, and diagrams) to the equivalent of 25 pages and the appendix to 20 pages, using the following standards:

• A “page” is 8.5″ x 11″, on one side only, with 1″ margins at the top, bottom, and both sides.

• Double space (no more than three lines per vertical inch) all text in the research narrative, including titles, headings, footnotes, quotations, references, and captions, as well as all text in charts, tables, figures, and graphs.

• Use a font that is either 12-point or larger or no smaller than 10 pitch (characters per inch).

The page limit does not apply to the Application for Federal Assistance (ED 424 Standard Face Sheet), the one-page abstract, the budget summary form (ED 524) and narrative budget justification, the curriculum vitae, and literature cited. Nor does the limit apply to the assurances and certifications, which must be submitted before any award is made, but do not have to be submitted with the initial application.

Our reviewers will not read any pages of your application that—

• Exceed the page limit if you apply these standards; or

• Exceed the equivalent of the page limit if you apply other standards.

We have found that reviewers are able to conduct the highest quality review when applications are concise and easy to read, with pages consecutively numbered.

Applicable Regulations: (a) The Education Department General Administrative Regulations (EDGAR) in 34 CFR parts 74, 75 (except as limited in 34 CFR 700.5), 77, 80, 81, 82, 85, 86 (part 86 applies only to Institutions of Higher Education), 97, 98, and 99. (b) The regulations in 34 CFR part 700.

SUPPLEMENTARY INFORMATION:

Background

Substantial research evidence has accrued concerning early literacy skills. Translating this research into practice should produce improvement of basic decoding and word recognition skills. According to recent reviews, such as the RAND Reading Study Group Report (2001), however, relatively little research has been aimed at reading comprehension. Comprehension builds on early skills, but involves processing of connected discourse and other complex verbal materials that are essential for academic success after the early elementary years. Indeed, reading achievement, as estimated by State and national test scores, typically declines after 4th grade. Research is needed that addresses this critical juncture between learning to read and reading to learn, including its antecedents in early childhood as well as consequences for later development. To that end, the Program of Research on Reading Comprehension is designed to expand scientific knowledge of how students develop proficient reading comprehension, how reading comprehension can best be taught, and how reading comprehension can be assessed in ways that reflect as well as advance current understanding of comprehension processes. Specifically, an important component of the program is to obtain converging evidence on development and assessment of comprehension that coheres with scientifically supported theories, and that advances such theories by subjecting their core predictions to empirical tests. A further purpose is to provide a scientific foundation for approaches to comprehension instruction that allow students to achieve proficient comprehension across a range of texts and subjects.

Priority

This competition focuses on projects designed to meet the priority in the notice of final priority for this program, published elsewhere in this issue of the Federal Register. The title of this priority is Program of Research on Reading Comprehension. For FY 2002 this priority is an absolute priority. Under 34 CFR 75.105(c)(3) we consider only applications that meet the priority.

Selection Criteria: The Secretary selects the following selection criteria in 34 CFR 700.30(e) to evaluate applications for new grants under this competition. The proportionate percentage weight for each criterion is indicated in parentheses.

(a) National Significance (.2)

(b) Quality of the Project Design (.5)

(c) Quality and Potential Contributions of Personnel (.2)

(d) Adequacy of Resources (.1)

Strong applications for Program of Research on Reading Comprehension (PRRC) grants clearly address each of the applicable selection criteria. They make a well-reasoned and compelling case for the national significance of the problems or issues that will be the subject of the proposed research, and present a research design that is complete, clearly delineated, and incorporates sound research methods. In addition, the personnel descriptions included in strong applications make it apparent that the project director, principal investigator, and other key personnel possess training and experience commensurate with their duties.

Collaboration: We encourage collaboration in the conduct of research. For example, major research universities and institutions may collaborate with historically underrepresented institutions, such as Historically Black Colleges and Universities, Hispanic-Serving Institutions, and Tribal Colleges and Universities.

Pre-Application Meeting: April 22, 2002.

Interested parties are invited to participate in a pre-application meeting to discuss the funding priority. In the meeting, participants will receive technical assistance and information about the funding priority. Participants are also encouraged to use this meeting to engage in substantive discussion about prior empirical research and the nature of high quality research in this area. You may attend the meeting in person at the Department of Education, Office of Educational Research and Improvement, 555 New Jersey Avenue, NW., room 101, Washington, DC, between 1 p.m. and 4 p.m. A summary of the meeting will be posted on the Internet at: http://www.ed.gov/offices/OERI.

Assistance to Individuals With Disabilities at the Meeting

The meeting site is accessible to individuals with disabilities. If you will need an auxiliary aid or service to participate in the meeting (e.g., interpreting service, assistive listening device, or materials in an alternative format), notify the contact person listed under FOR FURTHER INFORMATION CONTACT at least two weeks before the scheduled meeting date. Although we will attempt to meet a request we receive after that date, we may not be able to make available the requested auxiliary aid or service because of insufficient time to arrange it.

Application Procedures

The Government Paperwork Elimination Act (GPEA) of 1998, (Pub. L. 105-277) and the Federal Financial Assistance Management Improvement Act of 1999, (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

We are requiring that applications to the FY 2002 Program of Research on Reading Comprehension be submitted electronically using e-Application available through the Education Department's e-GRANTS system. The e-GRANTS system is accessible through its portal page at: http://e-grants.ed.gov.

Applicants who are unable to submit an application through the e-GRANTS system may apply for a waiver to the electronic submission requirement. To apply for a waiver, applicants must explain the reason(s) that prevent them from using the Internet to submit their applications. The reasons(s) must be outlined in a letter addressed to: Anne Sweet or Rita Foy, U.S. Department of Education, 555 New Jersey Avenue, NW, room 513, Washington, DC 20208-5573. Please submit your letter no later than two weeks before the closing date.

Any application that receives a waiver to the electronic submission requirement will be given the same consideration in the review process as an electronic application.

Waiver of Proposed Rulemaking

Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2002, the U.S. Department of Education is continuing to expand its pilot project of electronic submission of applications to include additional formula grant programs and additional discretionary grant competitions. The Program of Research on Reading Comprehension—CFDA 84.305G is one of the programs included in the pilot project. If you are an applicant under the Program of Research on Reading Comprehension, you must submit your application to us in electronic format or receive a waiver.

The pilot project involves the use of the Electronic Grant Application System (e-APPLICATION, formerly e-GAPS) portion of the Grant Administration and Payment System (GAPS). We shall continue to evaluate its success and solicit suggestions for improvement.

Please note the following:

• Do not wait until the deadline date for the transmittal of applications to submit your application electronically. If you wait until the deadline date to submit your application electronically and you are unable to access the e-Application system, you must contact the Help Desk by 4:30 p.m. Washington DC time on the deadline date.

• Keep in mind that e-Application is not operational 24 hours a day every day of the week. Click on Hours of Web Site Operation for specific hours of access during the week.

• You will have access to the e-Application Help Desk for technical support: 1-888-336-8930 (TTY: 1-866-697-2696, local 202-401-8363). The Help Desk hours of operation are limited to: 8 a.m.-6 p.m. Washington DC time Monday-Friday.

• If you submit your application electronically by the transmittal date but also wish to submit a paper copy of your application, then you must mail the paper copy of the application on or before the deadline date to: U.S. Department of Education, Application Control Center, Attention: CFDA # 84.305G, 7th and D Streets, SW., Room 3633, Regional Office Building 3, Washington, DC 20202-4725.

• You can submit all documents electronically, including the Application for Federal Assistance (ED 424 Standard Face Sheet), Budget Information—Non-Construction Programs (ED 524), and all necessary assurances and certifications.

• Within three working days of submitting your electronic application, fax a signed copy of the Application for Federal Assistance (ED 424 Standard Face Sheet) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for the PRRC at: http://e-grants.ed.gov.

FOR FURTHER INFORMATION CONTACT: Anne P. Sweet or Rita Foy Moss, U.S. Department of Education, 555 New Jersey Avenue, NW., room 513, Washington, DC 20208-5573. Telephone: (202) 219-0610, or FAX: (202) 219-2135, or via Internet: PRRCinfo@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting Anne P. Sweet or Rita Foy Moss. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 6031.

Dated: April 4, 2002.
Grover J. Whitehurst,
Assistant Secretary for Educational Research and Improvement.

[FR Doc. 02-8718 Filed 4-9-02; 8:45 am]

BILLING CODE 4000-7-P